DEPARTMENT OF VETERANS AFFAIRS

Health Services Research and Development Service, Scientific Merit Review Board; Notice of Meetings

The Department of Veterans Affairs (VA) gives notice under the Federal Advisory Committee Act, 5 U.S.C. App. 2, that the Health Services Research and Development Service Scientific Merit Review Board will conduct in-person and teleconference meetings of its seven Health Services Research (HSR) subcommittees on the dates below from 8:00 a.m. to approximately 5:00 p.m. (unless otherwise listed) at the Sheraton Suites Old Town, 801 North St. Asaph Street, Alexandria, VA 22314 (unless otherwise listed):

• HSR 1—Health Care and Clinical Management on March 1-2, 2016;

• HSR 2—Behavioral, Social, and Cultural Determinants of Health and Care on March 1-2, 2016;

• Nursing Research Initiative (NRI) from 8:00 a.m. to 12:00 p.m. on March 1, 2016 ;

• HSR 4—Mental and Behavioral Health on March 1-2, 2016;

• HSR 5—Health Care System Organization and Delivery on March 1-2, 2016;

• HSR 3—Healthcare Informatics on March 2-3, 2016;

• Career Development Award Meeting on March 2-3, 2016 at the American Association of Airport Executives (AAAE) Building at 601 Madison Street, Alexandria, VA 22314; and

• HSR 6—Post-acute and Long-term Care on March 3, 2016.

The purpose of the Board is to review health services research and development applications involving the measurement and evaluation of health care services; the testing of new methods of health care delivery and management; and nursing research. Applications are reviewed for scientific and technical merit, mission relevance, and the protection of human and animal subjects. Recommendations regarding funding are submitted to the Chief Research and Development Officer.

Each subcommittee meeting of the Board will be open to the public the first day for approximately one half-hour at the start of the meeting on March 1-2 (HSR 1, 2, 4, 5 and NRI), March 2-3 (HSR 3 and CDA), and March 3 (HSR 6) to cover administrative matters and to discuss the general status of the program. Members of the public who wish to attend the open portion of the subcommittee meetings may dial 1 (800) 767-1750, participant code 10443.

The remaining portion of each subcommittee meeting will be closed for the discussion, examination, reference to, and oral review of the intramural research proposals and critiques. During the closed portion of each subcommittee meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

No oral or written comments will be accepted from the public for either portion of the meetings. Those who plan to participate during the open portion of a subcommittee meeting should contact Ms. Liza Catucci, Administrative Officer, Department of Veterans Affairs, Health Services Research and Development Service (10P9H), 810 Vermont Avenue NW., Washington, DC 20420, or by email at Liza.Catucci@va.gov. For further information, please call Ms. Catucci at (202) 443-5797.

Dated: January 27, 2016.
Rebecca Schiller,
Advisory Committee Management Officer.

[FR Doc. 2016-02090 Filed 2-3-16; 8:45 am]

BILLING CODE 8320-01-P